DEPARTMENT OF STATE

[Public Notice: 12854]

Notice of 2022 Department of State Sanctions Actions Pursuant to the Executive Order Regarding Blocking Property With Respect to Specified Harmful Foreign Activities of the Government of the Russian Federation

SUMMARY: The Department of State is publishing the names of one or more persons that were placed on the Department of Treasury's List of Specially Designated Nationals and Blocked Persons (SDN List) administered by the Office of Foreign Asset Control (OFAC) in 2022 based on the Department of State's determination, in consultation with other departments, as appropriate, that one or more applicable legal criteria of the Executive Order regarding blocking property with respect to specified harmful foreign activities of the Government of the Russian Federation were satisfied. All property and interests in property subject to U.S. jurisdiction of these persons are blocked, and U.S. persons are generally prohibited from engaging in transactions with them.

DATES: These actions were issued on February 25, 2022, March 3, 2022, March 15, 2022, April 7, 2022, May 8, 2022, June 28, 2022, July 22, 2022, August 2, 2022, September 15, 2022, November 14, 2022, November 15, 2022, December 9, 2022, and December 22, 2022, respectively. See SUPPLEMENTARY INFORMATION section for effective date(s) in 2022.

FOR FURTHER INFORMATION CONTACT: Office of Counterproliferation Initiatives, Bureau of Arms Control and Nonproliferation, Department of State, Washington, DC 20520, tel.: (202) 647 5193, email: ACN_Sanctions@state.gov.

SUPPLEMENTARY INFORMATION:

Electronic Availability

The SDN List and additional information concerning OFAC sanctions programs are available on OFAC's website (https://www.treasury.gov/ofac). The announcements for these actions are available on the Department of State's website (https://2021-2025.state.gov/imposing-sanctions-on-president-putin-and-three-other-senior-russian-officials/; https://2021-2025.state.gov/targeting-russian-elites-and-defense-enterprises-of-russian-federation/; https://2021-2025.state.gov/u-s-announces-sanctions-on-key-members-of-russias-defense-enterprise/; https://2021-2025.state.gov/additional-state-department-designations-targeting-russian-state-owned-defense-shipbuilding-enterprise/; https://2021-2025.state.gov/state-department-actions-to-promote-accountability-and-impose-costs-on-the-russian-government-for-putins-aggression-against-ukraine/; https://2021-2025.state.gov/targeting-russias-war-machine-sanctions-evaders-military-units-credibly-implicated-in-human-rights-abuses-and-russian-federation-officials-involved-in-suppression-of-dissent/; https://ofac.treasury.gov/recent-actions/20220722; https://2021-2025.state.gov/imposing-additional-costs-on-russia-for-its-continued-war-against-ukraine/; https://2021-2025.state.gov/targeting-russias-senior-officials-defense-industrial-base-and-human-rights-abusers/; https://2021-2025.state.gov/targeting-russias-global-military-procurement-network-and-kremlin-linked-networks/; https://2021-2025.state.gov/imposing-sanctions-on-entities-and-individuals-in-response-to-irans-transfer-of-military-uavs-to-russia/; https://2021-2025.state.gov/the-united-states-imposes-sanctions-on-russian-entities-involved-in-uav-deal-with-iran/; https://2021-2025.state.gov/the-united-states-imposes-sanctions-on-russian-naval-entities/).

Notice of Department of State Actions

On February 25, 2022, the Department of State, in consultation with other departments, as appropriate, determined that the property and interests in property subject to U.S. jurisdiction of the following persons are blocked under the relevant sanctions authority listed below.

Individuals

1. SHOIGU, Sergei, Russia; DOB 21 May 1955; POB Chadan, the Tuvan, Russia; nationality Russia; Gender Male (individual) [RUSSIA-EO14024].

Designated pursuant to section 1(a)(i) of Executive Order 14024 of April 15, 2021 “Blocking Property With Respect To Specified Harmful Foreign Activities of the Government of the Russian Federation,” (E.O. 14024) for operating or having operated in the defense or related materiel sector of the Russian Federation economy.

2. GERASIMOV, Valery, Russia; DOB 08 Sep 1955; POB Kazan, Russia; nationality Russia; Gender Male (individual) [RUSSIA-EO14024].

Designated pursuant to section 1(a)(i) of E.O. 14024 for operating or having operated in the defense or related materiel sector of the Russian Federation economy.

Notice of Department of State Actions

On March 3, 2022, the Department of State, in consultation with other departments, as appropriate, determined that the property and interests in property subject to U.S. jurisdiction of the following persons are blocked under the relevant sanctions authority listed below.

Entities

BILLING CODE 1710-27-P

BILLING CODE 1710-27-C

Notice of Department of State Actions

On March 15, 2022, the Department of State, in consultation with other departments, as appropriate, determined that the property and interests in property subject to U.S. jurisdiction of the following persons are blocked under the relevant sanctions authority listed below.

Individuals

1. KRIVORUCHKO, Aleksey (a.k.a. KRIVORUCHKO, Alexei), Russia; DOB 17 Jul 1975; POB Stavropol, Russia; nationality Russia; Gender Male (individual) [RUSSIA-EO14024].

Designated pursuant to section 1(a)(i) of E.O. 14024 for operating or having operated in the defense and related materiel sector of the Russian Federation economy.

2. IVANOV, Timur (a.k.a. IVANOV, Timur Vadimovich), Russia; DOB 12 Aug 1975; POB Moscow, Russia; nationality Russia; Gender Male (individual) [RUSSIA-EO14024].

Designated pursuant to section 1(a)(i) of E.O. 14024 for operating or having operated in the defense and related materiel sector of the Russian Federation economy.

3. EVKUROV, Yunus-Bek (a.k.a. YEVKUROV, Yunus-Bek), Russia; DOB 30 Jul 1963; POB Tarskoye, Prigorodny District, North Ossetia, Russia; nationality Russia; Gender Male (individual) [RUSSIA-EO14024].

Designated pursuant to Section 1(a)(i) of E.O. 14024 for operating or having operated in the defense and related materiel sector of the Russian Federation economy.

4. BULGAKOV, Dmitry, Russia; DOB 20 Oct 1954; POB Verkhneye Gurovo, Kursk Region, Russia; nationality Russia; Gender Male (individual) [RUSSIA-EO14024].

Designated pursuant to section 1(a)(i) of E.O. 14024 for operating or having operated in the defense and related materiel sector of the Russian Federation economy.

5. SADOVENKO, Yuriy (a.k.a. SADOVENKO, Yuri), Russia; DOB 11 Sep 1969; POB Zhitomyr, Ukraine; nationality Russia; Gender Male (individual) [RUSSIA-EO14024].

Designated pursuant to section 1(a)(i) of E.O. 14024 for operating or having operated in the defense and related materiel sector of the Russian Federation economy.

6. PANKOV, Nikolay (a.k.a. PANKOV, Nikolai), Russia; DOB 02 Dec 1954; POB Mar'yino, Kostroma Region, Russia; nationality Russia; Gender Male (individual) [RUSSIA-EO14024].

Designated pursuant to section 1(a)(i) of E.O. 14024 for operating or having operated in the defense and related materiel sector of the Russian Federation economy.

7. TSALIKOV, Ruslan, Russia; DOB 31 Jul 1956; POB Ordzhonikidze, North Ossetia, Russia; nationality Russia; Gender Male (individual) [RUSSIA-EO14024].

Designated pursuant to section 1(a)(i) of E.O. 14024 for operating or having operated in the defense and related materiel sector of the Russian Federation economy.

8. ZHIDKO, Gennady, Russia; DOB 12 Sep 1965; POB Uzbekistan; nationality Russia; Gender Male (individual) [RUSSIA-EO14024].

Designated pursuant to section 1(a)(i) of E.O. 14024 for operating or having operated in the defense and related materiel sector of the Russian Federation economy.

9. MIKHEEV, Aleksander Aleksandrovich (a.k.a. MIKHEEV, Alexander A.; a.k.a. MIKHEYEV, Alexander), Russia; DOB 18 Nov 1961; POB Moscow, Russia; nationality Russia; Gender Male (individual) [RUSSIA-EO14024].

Designated pursuant to section 1(a)(i) of E.O. 14024 for operating or having operated in the defense and related materiel sector of the Russian Federation economy.

10. SHUGAYEV, Dmitry (a.k.a. SHUGAEV, Dmitry Evgenyevich), Moscow, Russia; DOB 11 Aug 1965; POB Moscow, Russia; nationality Russia; Gender Male (individual) [RUSSIA-EO14024].

Designated pursuant to section 1(a)(i) of E.O. 14024 for operating or having operated in the defense and related materiel sector of the Russian Federation economy.

On March 15, 2022, based on a decision by the Department of State, in consultation with other departments, as appropriate, OFAC updated the entry on the SDN List for the following person, whose property and interests in property subject to U.S. jurisdiction continue to be blocked under the relevant sanctions authority listed below.

1. ZOLOTOV, Viktor Vasiliyevich, Russia; DOB 27 Jan 1954; POB Ryazanskaya oblast, Russia; nationality Russia; Gender Male; Director of the Federal Service of National Guard Troops and Commander of the National Guard Troops of the Russian Federation (individual) [UKRAINE-EO13661].

-to-

ZOLOTOV, Viktor (a.k.a. ZOLOTOV, Viktor Vasilyevich), Russia; DOB 27 Jan 1954; POB Ryazanskaya oblast, Russia; nationality Russia; Gender Male (individual) [UKRAINE-EO13661] [RUSSIA-EO14024].

Designated pursuant to section 1(a)(i) of E.O. 14024 for operating or having operated in the defense and related materiel sector of the Russian Federation economy.

Notice of Department of State Actions

On April 7, 2022, the Department of State, in consultation with other departments, as appropriate, determined that the property and interests in property subject to U.S. jurisdiction of the following persons are blocked under the relevant sanctions authority listed below.

Individuals

BILLING CODE 1710-27-P

Entities

Notice of Department of State Actions

On May 8, 2022, the Department of State, in consultation with other departments, as appropriate, determined that the property and interests in property subject to U.S. jurisdiction of the following persons are blocked under the relevant sanctions authority listed below.

Entities

BILLING CODE 1710-27-C

Vessels

1. ANASTASIIA (f.k.a. VIKTORIA SHAIN) General Cargo 9,611GRT Russia flag; Vessel Registration Identification IMO 9349291 (vessel) [RUSSIA-EO14024] (Linked To: TRANSMORFLOT LLC).

Identified as property in which TRANSMORFLOT LLC, an entity whose property and interests in property are blocked pursuant to E.O. 14024, has an interest.

2. ASKAR-SARYDZHA General Cargo 4,991GRT Russia flag; Vessel Registration Identification IMO 9082142 (vessel) [RUSSIA-EO14024] (Linked To: TRANSMORFLOT LLC).

Identified as property in which TRANSMORFLOT LLC, an entity whose property and interests in property are blocked pursuant to E.O. 14024, has an interest.

3. ETIM EMIN General Cargo 1,853GRT Russia flag; Vessel Registration Identification IMO 8700010 (vessel) [RUSSIA-EO14024] (Linked To: TRANSMORFLOT LLC).

Identified as property in which TRANSMORFLOT LLC, an entity whose property and interests in property are blocked pursuant to E.O. 14024, has an interest.

4. GASRET ALIEV General Cargo 4,991GRT Russia flag; Vessel Registration Identification IMO 9083330 (vessel) [RUSSIA-EO14024] (Linked To: TRANSMORFLOT LLC).

Identified as property in which TRANSMORFLOT LLC, an entity whose property and interests in property are blocked pursuant to E.O. 14024, has an interest.

5. GENRIKH GASANOV General Cargo 4,991GRT Russia flag; Vessel Registration Identification IMO 9083196 (vessel) [RUSSIA-EO14024] (Linked To: TRANSMORFLOT LLC).

Identified as property in which TRANSMORFLOT LLC, an entity whose property and interests in property are blocked pursuant to E.O. 14024, has an interest.

6. KOMPOZITOR GASANOV Roll-on Roll-off 6,894GRT Russia flag; Vessel Registration Identification IMO 8606628 (vessel) [RUSSIA-EO14024] (Linked To: TRANSMORFLOT LLC).

Identified as property in which TRANSMORFLOT LLC, an entity whose property and interests in property are blocked pursuant to E.O. 14024, has an interest.

7. LADY D (f.k.a. MALIY B.S.) General Cargo 9,611GRT Russia flag; Vessel Registration Identification IMO 9349289 (vessel) [RUSSIA-EO14024] (Linked To: TRANSMORFLOT LLC).

Identified as property in which TRANSMORFLOT LLC, an entity whose property and interests in property are blocked pursuant to E.O. 14024, has an interest.

8. LADY MARIIA (f.k.a. STELLA-MARIA) Roll-on Roll-off 8,831GRT Russia flag; Vessel Registration Identification IMO 9220641 (vessel) [RUSSIA-EO14024] (Linked To: TRANSMORFLOT LLC).

Identified as property in which TRANSMORFLOT LLC, an entity whose property and interests in property are blocked pursuant to E.O. 14024, has an interest.

9. LADY R Roll-on Roll-off 7,260GRT Russia flag; Vessel Registration Identification IMO 9161003 (vessel) [RUSSIA-EO14024] (Linked To: TRANSMORFLOT LLC).

Identified as property in which TRANSMORFLOT LLC, an entity whose property and interests in property are blocked pursuant to E.O. 14024, has an interest.

10. MAIA-1 (f.k.a. NEPTUN) General Cargo 9,611GRT Russia flag; Vessel Registration Identification IMO 9358010 (vessel) [RUSSIA-EO14024] (Linked To: TRANSMORFLOT LLC).

Identified as property in which TRANSMORFLOT LLC, an entity whose property and interests in property are blocked pursuant to E.O. 14024, has an interest.

11. OLGA General Cargo 1,853GRT Russia flag; Vessel Registration Identification IMO 8700046 (vessel) [RUSSIA-EO14024] (Linked To: TRANSMORFLOT LLC).

Identified as property in which TRANSMORFLOT LLC, an entity whose property and interests in property are blocked pursuant to E.O. 14024, has an interest.

12. PORT OLYA-1 General Cargo 4,878GRT Russia flag; Vessel Registration Identification IMO 9481922 (vessel) [RUSSIA-EO14024] (Linked To: TRANSMORFLOT LLC).

Identified as property in which TRANSMORFLOT LLC, an entity whose property and interests in property are blocked pursuant to E.O. 14024, has an interest.

13. PORT OLYA-2 General Cargo 4,878GRT Russia flag; Vessel Registration Identification IMO 9481881 (vessel) [RUSSIA-EO14024] (Linked To: TRANSMORFLOT LLC).

Identified as property in which TRANSMORFLOT LLC, an entity whose property and interests in property are blocked pursuant to E.O. 14024, has an interest.

14. RASUL GAMZATOV General Cargo 4,991GRT Russia flag; Vessel Registration Identification IMO 8861058 (vessel) [RUSSIA-EO14024] (Linked To: TRANSMORFLOT LLC).

Identified as property in which TRANSMORFLOT LLC, an entity whose property and interests in property are blocked pursuant to E.O. 14024, has an interest.

15. SONA General Cargo 1,853GRT Russia flag; Vessel Registration Identification IMO 8700060 (vessel) [RUSSIA-EO14024] (Linked To: TRANSMORFLOT LLC).

Identified as property in which TRANSMORFLOT LLC, an entity whose property and interests in property are blocked pursuant to E.O. 14024, has an interest.

16. VALENTIN EMIROV General Cargo 4,110GRT Russia flag; Vessel Registration Identification IMO 8866591 (vessel) [RUSSIA-EO14024] (Linked To: TRANSMORFLOT LLC).

Identified as property in which TRANSMORFLOT LLC, an entity whose property and interests in property are blocked pursuant to E.O. 14024, has an interest.

17. ADLER Roll-on Roll-off 8,811GRT Russia flag; Vessel Registration Identification IMO 9179854 (vessel) [RUSSIA-EO14024] (Linked To: M LEASING LLC).

Identified as property in which M LEASING LLC, an entity whose property and interests in property are blocked pursuant to E.O. 14024, has an interest.

18. ANGARA Roll-on Roll-off 8,811GRT Russia flag; Vessel Registration Identification IMO 9179842 (vessel) [RUSSIA-EO14024] (Linked To: M LEASING LLC).

Identified as property in which M LEASING LLC, an entity whose property and interests in property are blocked pursuant to E.O. 14024, has an interest.

19. ASCALON Roll-on Roll-off 8,821GRT Russia flag; Vessel Registration Identification IMO 9198226 (vessel) [RUSSIA-EO14024] (Linked To: M LEASING LLC).

Identified as property in which M LEASING LLC, an entity whose property and interests in property are blocked pursuant to E.O. 14024, has an interest.

20. POLAR ROCK Crude Oil Tanker 56,924GRT Russia flag; Vessel Registration Identification IMO 9116632 (vessel) [RUSSIA-EO14024] (Linked To: MARINE TRANS SHIPPING LLC).

Identified as property in which MARINE TRANS SHIPPING LLC, an entity whose property and interests in property are blocked pursuant to E.O. 14024, has an interest.

21. ENISEY Bulk Carrier 27,078GRT Russia flag; Vessel Registration Identification IMO 9079169 (vessel) [RUSSIA-EO14024] (Linked To: NORD PROJECT LLC TRANSPORT COMPANY).

Identified as property in which NORD PROJECT LLC TRANSPORT COMPANY, an entity whose property and interests in property are blocked pursuant to E.O. 14024, has an interest.

22. NP DIKSON Chemical/Oil Tanker 15,980GRT Russia flag; Vessel Registration Identification IMO 9255270 (vessel) [RUSSIA-EO14024] (Linked To: NORD PROJECT LLC TRANSPORT COMPANY).

Identified as property in which NORD PROJECT LLC TRANSPORT COMPANY, an entity whose property and interests in property are blocked pursuant to E.O. 14024, has an interest.

23. NP DUDINKA Chemical/Oil Tanker 14,400GRT Russia flag; Vessel Registration Identification IMO 9183831 (vessel) [RUSSIA-EO14024] (Linked To: NORD PROJECT LLC TRANSPORT COMPANY).

Identified as property in which NORD PROJECT LLC TRANSPORT COMPANY, an entity whose property and interests in property are blocked pursuant to E.O. 14024, has an interest.

24. RZK CONSTANTA General Cargo 7,095GRT Russia flag; Vessel Registration Identification IMO 8711289 (vessel) [RUSSIA-EO14024] (Linked To: NORD PROJECT LLC TRANSPORT COMPANY).

Identified as property in which NORD PROJECT LLC TRANSPORT COMPANY, an entity whose property and interests in property are blocked pursuant to E.O. 14024, has an interest.

25. SEVERNIY PROECT General Cargo 13,066GRT Russia flag; Vessel Registration Identification IMO 9202053 (vessel) [RUSSIA-EO14024] (Linked To: NORD PROJECT LLC TRANSPORT COMPANY).

Identified as property in which NORD PROJECT LLC TRANSPORT COMPANY, an entity whose property and interests in property are blocked pursuant to E.O. 14024, has an interest.

26. SIBERIA Bulk Carrier 17,665GRT Russia flag; Vessel Registration Identification IMO 9239458 (vessel) [RUSSIA-EO14024] (Linked To: NORD PROJECT LLC TRANSPORT COMPANY).

Identified as property in which NORD PROJECT LLC TRANSPORT COMPANY, an entity whose property and interests in property are blocked pursuant to E.O. 14024, has an interest.

27. TAIBOLA General Cargo 8,448GRT Russia flag; Vessel Registration Identification IMO 9086253 (vessel) [RUSSIA-EO14024] (Linked To: NORD PROJECT LLC TRANSPORT COMPANY).

Identified as property in which NORD PROJECT LLC TRANSPORT COMPANY, an entity whose property and interests in property are blocked pursuant to E.O. 14024, has an interest.

28. TAIMYR General Cargo 7,949GRT Russia flag; Vessel Registration Identification IMO 8821797 (vessel) [RUSSIA-EO14024] (Linked To: NORD PROJECT LLC TRANSPORT COMPANY).

Identified as property in which NORD PROJECT LLC TRANSPORT COMPANY, an entity whose property and interests in property are blocked pursuant to E.O. 14024, has an interest.

29. TAMBEY General Cargo 7,949GRT Russia flag; Vessel Registration Identification IMO 9014872 (vessel) [RUSSIA-EO14024] (Linked To: NORD PROJECT LLC TRANSPORT COMPANY).

Identified as property in which NORD PROJECT LLC TRANSPORT COMPANY, an entity whose property and interests in property are blocked pursuant to E.O. 14024, has an interest.

30. TERIBERKA General Cargo 8,448GRT Russia flag; Vessel Registration Identification IMO 9081291; MMSI 273211090 (vessel) [RUSSIA-EO14024] (Linked To: NORD PROJECT LLC TRANSPORT COMPANY).

Identified as property in which NORD PROJECT LLC TRANSPORT COMPANY, an entity whose property and interests in property are blocked pursuant to E.O. 14024, has an interest.

31. TERSKIY BEREG General Cargo 8,448GRT Russia flag; Vessel Registration Identification IMO 9081368 (vessel) [RUSSIA-EO14024] (Linked To: NORD PROJECT LLC TRANSPORT COMPANY).

Identified as property in which NORD PROJECT LLC TRANSPORT COMPANY, an entity whose property and interests in property are blocked pursuant to E.O. 14024, has an interest.

32. TIKSY General Cargo 7,949GRT Russia flag; Vessel Registration Identification IMO 8821802 (vessel) [RUSSIA-EO14024] (Linked To: NORD PROJECT LLC TRANSPORT COMPANY).

Identified as property in which NORD PROJECT LLC TRANSPORT COMPANY, an entity whose property and interests in property are blocked pursuant to E.O. 14024, has an interest.

33. TURUKHAN General Cargo 8,448GRT Russia flag; Vessel Registration Identification IMO 9081332 (vessel) [RUSSIA-EO14024] (Linked To: NORD PROJECT LLC TRANSPORT COMPANY).

Identified as property in which NORD PROJECT LLC TRANSPORT COMPANY, an entity whose property and interests in property are blocked pursuant to E.O. 14024, has an interest.

34. UTRENNIY General Cargo 12,936GRT Russia flag; Vessel Registration Identification IMO 9347059 (vessel) [RUSSIA-EO14024] (Linked To: NORD PROJECT LLC TRANSPORT COMPANY).

Identified as property in which NORD PROJECT LLC TRANSPORT COMPANY, an entity whose property and interests in property are blocked pursuant to E.O. 14024, has an interest.

35. SABETTA General Cargo 12,936GRT Russia flag; Vessel Registration Identification IMO 9347061 (vessel) [RUSSIA-EO14024] (Linked To: NORD PROJECT LLC TRANSPORT COMPANY).

Identified as property in which NORD PROJECT LLC TRANSPORT COMPANY, an entity whose property and interests in property are blocked pursuant to E.O. 14024, has an interest.

36. SPARTA II Roll-on Roll-off 7,260GRT Russia flag; Vessel Registration Identification IMO 9160994 (vessel) [RUSSIA-EO14024] (Linked To: OBORONLOGISTIKA OOO).

Identified as property in which OBORONLOGISTIKA OOO, an entity whose property and interests in property are blocked pursuant to E.O. 14024, has an interest.

37. AMBAL Roll-on Roll-off 20,729GRT Russia flag; Vessel Registration Identification IMO 8807416 (vessel) [RUSSIA-EO14024] (Linked To: OBORONLOGISTIKA OOO).

Identified as property in which OBORONLOGISTIKA OOO, an entity whose property and interests in property are blocked pursuant to E.O. 14024, has an interest.

38. MARIA E (a.k.a. “MARIA”) Roll-on Roll-off 3,069GRT Togo flag; Other Vessel Type Passenger; Vessel Registration Identification IMO 9617923 (vessel) [RUSSIA-EO14024] (Linked To: OBORONLOGISTIKA OOO).

Identified as property in which OBORONLOGISTIKA OOO, an entity whose property and interests in property are blocked pursuant to E.O. 14024, has an interest.

39. PIZHMA General Cargo 3,466GRT Russia flag; Vessel Registration Identification IMO 8814354 (vessel) [RUSSIA-EO14024] (Linked To: SC SOUTH LLC).

Identified as property in which SC SOUTH LLC, an entity whose property and interests in property are blocked pursuant to E.O. 14024, has an interest.

40. SPARTA Roll-on Roll-off 8,831GRT Russia flag; Vessel Registration Identification IMO 9268710 (vessel) [RUSSIA-EO14024] (Linked To: SC SOUTH LLC).

Identified as property in which SC SOUTH LLC, an entity whose property and interests in property are blocked pursuant to E.O. 14024, has an interest.

41. SPARTA III (a.k.a. URSA MAJOR) General Cargo 12,679GRT Russia flag; Vessel Registration Identification IMO 9538892 (vessel) [RUSSIA-EO14024] (Linked To: SC SOUTH LLC).

Identified as property in which SC SOUTH LLC, an entity whose property and interests in property are blocked pursuant to E.O. 14024, has an interest.

42. SPARTA IV General Cargo 7,522GRT Russia flag; Vessel Registration Identification IMO 9743033 (vessel) [RUSSIA-EO14024] (Linked To: SC SOUTH LLC).

Identified as property in which SC SOUTH LLC, an entity whose property and interests in property are blocked pursuant to E.O. 14024, has an interest.

43. BELOMORSKIY Dredger 2,628GRT Russia flag; Vessel Registration Identification IMO 8305781 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

44. CHIZHOVKA Hopper Barge 745GRT Russia flag; Vessel Registration Identification IMO 8730455 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

45. DVINSKIY ZALIV Dredger 2,081GRT Russia flag; Vessel Registration Identification IMO 8922486 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

46. INZHENER TRUBIN General Cargo 6,418GRT Russia flag; Vessel Registration Identification IMO 8502080 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

47. INZHENER VESHNYAKOV General Cargo 6,418GRT Russia flag; Vessel Registration Identification IMO 8502107 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

48. IOHANN MAHMASTAL General Cargo 6,395GRT Russia flag; Vessel Registration Identification IMO 8603406 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

49. KAPITAN KOKOVIN General Cargo 2,474GRT Russia flag; Vessel Registration Identification IMO 9279422 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

50. KAPITAN RYNTSYN General Cargo 2,601GRT Russia flag; Vessel Registration Identification IMO 8618073 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

51. KAPITAN SAKHAROV General Cargo 2,474GRT Russia flag; Vessel Registration Identification IMO 9279434 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

52. KHOLMOGORY General Cargo 2,986GRT Russia flag; Vessel Registration Identification IMO 9109081 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

53. LAPOMINKA Hopper Barge 643GRT Russia flag; Vessel Registration Identification IMO 8928143 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

54. MEKHANIK BRILIN General Cargo 2,489GRT Russia flag; Vessel Registration Identification IMO 8904408 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

55. MEKHANIK KOTTSOV General Cargo 2,489GRT Russia flag; Vessel Registration Identification IMO 8904410 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

56. MEKHANIK KRASKOVSKIY General Cargo 2,489GRT Russia flag; Vessel Registration Identification IMO 8904458 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

57. MEKHANIK MAKARIN General Cargo 3,178GRT Russia flag; Vessel Registration Identification IMO 8904379 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

58. MEKHANIK PUSTOSHNYY General Cargo 2,489GRT Russia flag; Vessel Registration Identification IMO 8904422 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

59. MEKHANIK PYATLIN General Cargo 2,489GRT Russia flag; Vessel Registration Identification IMO 8904434 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

60. MEKHANIK YARTSEV General Cargo 2,489GRT Russia flag; Vessel Registration Identification IMO 8904367 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

61. MIKHAIL LOMONOSOV General Cargo 2,990GRT Russia flag; Vessel Registration Identification IMO 9216482 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

62. S. KUZNETSOV General Cargo 6,204GRT Russia flag; Vessel Registration Identification IMO 9210359 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

63. SIYANIE SEVERA General Cargo 6,577GRT Russia flag; Vessel Registration Identification IMO 9250385 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

64. SMP ARKHANGELSK General Cargo 7,752GRT Russia flag; Vessel Registration Identification IMO 9240550 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

65. SMP NOVODVINSK General Cargo 4,106GRT Russia flag; Vessel Registration Identification IMO 9398046 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

66. SMP SEVERODVINSK General Cargo 4,106GRT Russia flag; Vessel Registration Identification IMO 9376440 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

67. TERIBERKA Hopper Barge 643GRT Russia flag; Vessel Registration Identification IMO 8931748; MMSI 273913200 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

68. TRITON Tug 161GRT Russia flag; Vessel Registration Identification IMO 7236141 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

69. VIKTOR ZABELIN General Cargo 6,204GRT Russia flag; Vessel Registration Identification IMO 9210256 (vessel) [RUSSIA-EO14024] (Linked To: JOINT STOCK COMPANY NORTHERN SHIPPING COMPANY).

Identified as property in which JOINT STOCK COMPANY NORTHERN SHIPPING COMPANY, an entity whose property and interests in property are blocked pursuant to E.O. 14024, has an interest.

On May 8, 2022, based on a decision by the Department of State, in consultation with other departments, as appropriate, OFAC updated the entry on the SDN List for the following person, whose property and interests in property subject to U.S. jurisdiction continue to be blocked under the relevant sanctions authority listed below.

1. OBORONLOGISTIKA, OOO (a.k.a. OBORONLOGISTICS LIMITED LIABILITY COMPANY; a.k.a. OBORONLOGISTICS LLC; a.k.a. OBORONLOGISTIKA LLC; a.k.a. OBSHCHESTVO S OGRANICHENNOI OTVETSTVENNOSTYU ‘OBORONLOGISTIKA’), d. 18 str. 3 prospekt Komsomolski, Moscow 119021, Russia; ul. Goncharnaya, house 28, building 2, Moscow 115172, Russia; website Oboronlogistika.ru; Email Address v.boyko@oboronservice.ru; alt. Email Address Info@oboronlogistika.ru; Secondary sanctions risk: Ukraine-/Russia-Related Sanctions Regulations, 31 CFR 589.201 and/or 589.209; Registration ID 1117746641572 (Russia); Tax ID No. 7718857267 (Russia); Government Gazette Number 30167631 (Russia) [UKRAINE-EO13685].

-to-

OBORONLOGISTIKA OOO (a.k.a. OBORONLOGISTICS LIMITED LIABILITY COMPANY; a.k.a. OBORONLOGISTICS LLC; a.k.a. OBORONLOGISTIKA LLC; a.k.a. OBSHCHESTVO S OGRANICHENNOI OTVETSTVENNOSTYU OBORONLOGISTIKA), D. 18 Str. 3 Prospekt Komsomolski, Moscow 119021, Russia; Ul. Goncharnaya, House 28, Building 2, Moscow 115172, Russia; Secondary sanctions risk: Ukraine-/Russia-Related Sanctions Regulations, 31 CFR 589.201 and/or 589.209; Organization Established Date 18 Aug 2011; Registration ID 1117746641572 (Russia); Tax ID No. 7718857267 (Russia); Government Gazette Number 30167631 (Russia) [UKRAINE-EO13685] [RUSSIA-EO14024].

Designated pursuant to section 1(a)(i) of E.O. 14024 for operating or having operated in the defense and related materiel sector of the Russian Federation economy.

Notice of Department of State Actions

On June 28, 2022, the Department of State, in consultation with other departments, as appropriate, determined that the property and interests in property subject to U.S. jurisdiction of the following persons are blocked under the relevant sanctions authority listed below.

Entities

BILLING CODE 1710-27-P

BILLING CODE 1710-27-C

On June 28, 2022, based on a decision by the Department of State, in consultation with other departments, as appropriate, OFAC updated the entry on the SDN List for the following person, whose property and interests in property subject to U.S. jurisdiction continue to be blocked under the relevant sanctions authority listed below.

1. ROSOBORONEKSPORT OAO (a.k.a. OJSC ROSOBORONEXPORT; a.k.a. ROSOBORONEKSPORT OJSC; a.k.a. ROSOBORONEXPORT; a.k.a. ROSOBORONEXPORT JSC; a.k.a. RUSSIAN DEFENSE EXPORT ROSOBORONEXPORT), 27 Stromynka ul., Moscow 107076, Russia; website www.roe.ru; Executive Order 13662 Directive Determination—Subject to Directive 3; Secondary sanctions risk: Ukraine-/Russia-Related Sanctions Regulations, 31 CFR 589.201 and/or 589.209; Registration ID 1117746521452; Tax ID No. 7718852163; Government Gazette Number 56467052; For more information on directives, please visit the following link: http://www.treasury.gov/resource-center/sanctions/Programs/Pages/ukraine.aspx#directives [SYRIA] [UKRAINE-EO13662] (Linked To: STATE CORPORATION ROSTEC).

-to-

ROSOBORONEKSPORT OAO (a.k.a. ROSOBORONEKSPORT OJSC; a.k.a. ROSOBORONEXPORT JSC; a.k.a. RUSSIAN DEFENSE EXPORT ROSOBORONEXPORT), 27 Stromynka Ul., Moscow 107076, Russia; website www.roe.ru; Executive Order 13662 Directive Determination—Subject to Directive 3; Secondary sanctions risk: Ukraine-/Russia-Related Sanctions Regulations, 31 CFR 589.201 and/or 589.209; Registration ID 1117746521452 (Russia); Tax ID No. 7718852163 (Russia); Government Gazette Number 56467052 (Russia); For more information on directives, please visit the following link: http://www.treasury.gov/resource-center/sanctions/Programs/Pages/ukraine.aspx#directives [SYRIA] [UKRAINE-EO13662] [RUSSIA-EO14024] (Linked To: STATE CORPORATION ROSTEC).

Designated pursuant to section 1(a)(vii) of E.O. 14024 for being owned or controlled by, or having acted or purported to act for or on behalf of, directly or indirectly, the Government of the Russian Federation and pursuant to section 1(a)(iv) of E.O. 14024 for being a political subdivision, agency, or instrumentality of the Government of the Russian Federation.

2. FEDERAL SECURITY SERVICE (a.k.a. FEDERALNAYA SLUZHBA BEZOPASNOSTI; a.k.a. FSB), Ulitsa Kuznetskiy Most, Dom 22, Moscow 107031, Russia; Lubyanskaya Ploschad, Dom 2, Moscow 107031, Russia [NPWMD] [CYBER2] [CAATSA—RUSSIA].

-to-

FEDERAL SECURITY SERVICE (a.k.a. FEDERALNAYA SLUZHBA BEZOPASNOSTI; a.k.a. “FSB”), Ulitsa Kuznetskiy Most, Dom 22, Moscow 107031, Russia; Lubyanskaya Ploschad, Dom 2, Moscow 107031, Russia; 1/3 Bolshaya Lubyanka St, Moscow 107031, Russia; Organization Established Date 1994; Target Type Government Entity [NPWMD] [CYBER2] [CAATSA-RUSSIA] [RUSSIA-EO14024].

Designated pursuant to section 1(a)(iv) of E.O. 14024 for being or having been a political subdivision, agency, or instrumentality of the Government of the Russian Federation.

Notice of Department of State Actions

On July 22, 2022, based on a decision by the Department of State, in consultation with other departments, as appropriate, OFAC updated the entry on the SDN List for the following person, whose property and interests in property subject to U.S. jurisdiction continue to be blocked under the relevant sanctions authority listed below

1. JOINT STOCK COMPANY NORTH WESTERN REGIONAL CENTER OF ALMAZ ANTEY CONCERN OBUKHOVSKY PLANT (a.k.a. JOINT STOCK COMPANY NORTHWEST REGIONAL CENTER CONCERN PROVINCE OF EAST KAZAKHSTAN ALMAZ-ANTEY OBUKHOVSKY FACTORY; a.k.a. JOINT STOCK COMPANY OBUKHOVSKY FACTORY; a.k.a. JSC GOZ OBUKHOV PLANT; a.k.a. JSC OBUKHOVSKIY PLANT NORTHWEST REGIONAL CENTER OF ALMAZ ANTEY CORPORATION; a.k.a. JSC SOP OBUCHOVSKY PLANT), Obukhovskoy Defense Ave., 120, Saint Petersburg 190012, Russia; Organization Established Date 17 Nov 2003; Tax ID No. 7811144648 (Russia); Registration Number 1037825058732 (Russia) [RUSSIA-EO14024].

-to-

JOINT STOCK COMPANY NORTH WESTERN REGIONAL CENTER OF ALMAZ ANTEY CONCERN OBUKHOVSKY PLANT (a.k.a. JOINT STOCK COMPANY OBUKHOVSKY FACTORY; a.k.a. JSC GOZ OBUKHOV PLANT; a.k.a. JSC OBUKHOVSKIY PLANT NORTHWEST REGIONAL CENTER OF ALMAZ ANTEY CORPORATION; a.k.a. JSC SOP OBUCHOVSKY PLANT), Obukhovskoy Defense Ave., 120, Saint Petersburg 190012, Russia; Organization Established Date 17 Nov 2003; Tax ID No. 7811144648 (Russia); Registration Number 1037825058732 (Russia) [RUSSIA-EO14024].

Designated pursuant to section 1(a)(i) of E.O. 14024 for operating or having operated in the defense and related materiel sector of the Russian Federation economy.

Notice of Department of State Actions

On August 2, 2022, the Department of State, in consultation with other departments, as appropriate, determined that the property and interests in property subject to U.S. jurisdiction of the following persons are blocked under the relevant sanctions authority listed below.

Entities

1. ACADEMICIAN A.L. MINTS RADIOTECHNICAL INSTITUTE JOINT STOCK COMPANY (a.k.a. ACADEMICIAN A.L. MINTS RADIO ENGINEERING INSTITUTE; a.k.a. RADIO TECHNICAL AND INFORMATION SYSTEMS IMENI A.L. MINTS; a.k.a. RTI IMENI ACADEMICIAN A.L. MINTS), St. 8 Marta, House 10, Structure 1, Moscow 127083, Russia; Tax ID No. 7713006449 (Russia); Registration Number 1027739323831 (Russia) [RUSSIA-EO14024].

Designated pursuant to section 1(a)(i) of E.O. 14024 for operating or having operated in the defense and related materiel sector of the Russian Federation economy.

2. FEDERAL STATE INSTITUTION OF HIGHER VOCATIONAL EDUCATION MOSCOW INSTITUTE OF PHYSICS AND TECHNOLOGY (a.k.a. MOSKOVSKIY FIZIKO TEKHNICHESKIY INSTITUT; a.k.a. “MFTI”; a.k.a. “MIPT”), 9 Institutskiy Per., Dolgoprudny, Moscow Region 141701, Russia; 1 A Kerchenskaya St., Moscow 117303, Russia; Ulitsa Gagarina 16, Zhukovsky, Moscow Region 140180, Russia; Klimentovsky Pereulok 1 Stroyeniye 1, Moscow 115184, Russia; Tax ID No. 5008006211 (Russia); Registration Number 1027739386135 (Russia) [RUSSIA-EO14024].

Designated pursuant to section 1(a)(i) of E.O. 14024 for operating or having operated in the defense and related materiel sector of the Russian Federation economy.

3. FEDERAL STATE INSTITUTION FEDERAL SCIENTIFIC CENTER SCIENTIFIC RESEARCH INSTITUTE FOR SYSTEM ANALYSIS OF THE RUSSIAN ACADEMY OF SCIENCES (a.k.a. FEDERALNOE GOSUDARSTVENNOE UCHREZHDENIE FEDERALNYY NAUCHNYY TSENTR NAUCHNO-ISSLEDOVATELSKIY INSTITUT SISTEMNYKH ISSLEDOVANIY ROSSIYSKOY AKADEMII NAUK; a.k.a. FGU FNTS NIISI RAN; a.k.a. FSI FSC SRISA RAS; a.k.a. SCIENTIFIC RESEARCH INSTITUTE OF SYSTEM ANALYSIS, RUSSIAN ACADEMIC OF SCIENCES), Nakhimovsky Prospect, 36, Building 1, Moscow 117218, Russia; Tax ID No. 7727086772 (Russia); Registration Number 1027700384909 (Russia) [RUSSIA-EO14024].

Designated pursuant to section 1(a)(i) of E.O. 14024 for operating or having operated in the technology sector of the Russian Federation economy.

4. JOINT STOCK COMPANY INSTITUTE OF ELECTRONIC CONTROL COMPUTERS NAMED AFTER I.S. BRUK (a.k.a. “JSC INEUM”), 24, Vavilova st., Moscow 119334, Russia; Tax ID No. 7736005096 (Russia) [RUSSIA-EO14024].

Designated pursuant to section 1(a)(i) of E.O. 14024 for operating or having operated in the technology sector of the Russian Federation economy.

5. JOINT STOCK COMPANY PENZENSKY NAUCHNO ISSLEDOVATELSKY ELEKTROTEKHNICHESKY HIGHER EDUCATION INSTITUTION (a.k.a. JSC PENZA ELECTROTECHNICAL RESEARCH INSTITUTE; a.k.a. “PNIEI JSC”), 9 Sovetskaya Str., Penza, Penza Region 440026, Russia; Organization Established Date 30 Dec 2011; Tax ID No. 5836649358 (Russia); Registration Number 1115836009255 (Russia) [RUSSIA-EO14024].

Designated pursuant to section 1(a)(i) of E.O. 14024 for operating or having operated in the technology sector of the Russian Federation economy.

6. JSC ZELENOGRAD NANOTECHNOLOGY CENTER, Bld. 6, Pl. IX, Office 17, Solnechnaya Alleya, Zelenograd, Moscow 124527, Russia; Tax ID No. 7735570680 (Russia) [RUSSIA-EO14024].

Designated pursuant to section 1(a)(i) of E.O. 14024 for operating or having operated in the technology sector of the Russian Federation economy.

7. SCIENTIFIC AND PRODUCTION ASSOCIATION OF MEASURING EQUIPMENT JSC (a.k.a. AKTSIONERNOE OBSCHESTVO NAUCHNO PROIZVODSTVENNOE OBEDINENIE IZMERITELNOY TEKHNIKI; a.k.a. SCIENTIFIC AND PRODUCTION ASSOCIATION OF MEASURING TECHNOLOGY; a.k.a. “AO NPO IT”), 2k4 Pionerskaya Str., Korolyov, Moscow Region 141074, Russia; Tax ID No. 5018139517 (Russia); Registration Number 1095018006555 (Russia) [RUSSIA-EO14024].

Designated pursuant to section 1(a)(i) of E.O. 14024 for operating or having operated in the technology sector of the Russian Federation economy.

8. SKOLKOVO FOUNDATION (a.k.a. FOUNDATION FOR DEVELOPMENT OF THE CENTER FOR ELABORATION AND COMMERCIALIZATION OF NEW TECHNOLOGIES), 5 Nobelya str., Skolkovo Innovation Centre, Moscow 121205, Russia; Organization Established Date 2010; Tax ID No. 7701058410 (Russia); Registration Number 1107799016720 (Russia) [RUSSIA-EO14024].

Designated pursuant to section 1(a)(i) of E.O. 14024 for operating or having operated in the technology sector of the Russian Federation economy.

9. SKOLKOVO INSTITUTE OF SCIENCE AND TECHNOLOGY (a.k.a. SKOLTECH), Bolshoy Boulevard 30, bld. 1, Moscow 121205, Russia; Tax ID No. 5032998454 (Russia); Registration Number 1115000005922 (Russia) [RUSSIA-EO14024].

Designated pursuant to section 1(a)(i) of E.O. 14024 for operating or having operated in the technology sector of the Russian Federation economy.

10. TECHNOPARK SKOLKOVO LIMITED LIABILITY COMPANY (a.k.a. LIMITED LIABILITY COMPANY SCIENCE AND TECHNOLOGY PARK SKOLKOVO; a.k.a. LLC TEKHNOPARK SKOLKOVO), 42 str 1 Skolkovo Innovatsionnogo Tsentra Territory, Bolshoy Boulevard, Moscow 121205, Russia; Organization Established Date 31 Dec 2010; Tax ID No. 7701902970 (Russia); Registration Number 5107746075949 (Russia) [RUSSIA-EO14024].

Designated pursuant to section 1(a)(i) of E.O. 14024 for operating or having operated in the technology sector of the Russian Federation economy.

11. JOINT STOCK COMPANY DESIGN CENTER SOYUZ (a.k.a. AKTSIONERNOE OBSHCHESTVO DIZAIN TSENTR SOYUZ), K. 100, KOM. 205, Zelenograd, Moscow 124482, Russia; Organization Established Date 29 Apr 2015; Tax ID No. 7735143270 (Russia); Registration Number 1157746403033 (Russia) [RUSSIA-EO14024].

Designated pursuant to section 1(a)(i) of E.O. 14024 for operating or having operated in the electronics sector of the Russian Federation economy.

12. JOINT STOCK COMPANY DESIGN TECHNOLOGY CENTER ELEKTRONIKA (a.k.a. ELECTRONICS EDC JSC; a.k.a. ELECTRONICS ENGINEERING AND DESIGN CENTER JOINT STOCK COMPANY; a.k.a. ELEKTRONIKA ENGINEERING AND DESIGN CENTER JOINT STOCK COMPANY; a.k.a. JOINT STOCK COMPANY KTTS ELEKTRONIKA), Building 119A Leninskiy Prospekt, 17A, 2nd Floor, Voronezh 394033, Russia; Organization Established Date 11 Jan 2006; Tax ID No. 3661033667 (Russia); Registration Number 1063667000495 (Russia) [RUSSIA-EO14024].

Designated pursuant to section 1(a)(i) of E.O. 14024 for operating or having operated in the electronics sector of the Russian Federation economy.

13. JOINT STOCK COMPANY INSTITUTE FOR SCIENTIFIC RESEARCH MICROELECTRONIC EQUIPMENT PROGRESS (a.k.a. JOINT STOCK COMPANY NIIMA PROGRESS; a.k.a. MICROELECTRONICS RESEARCH INSTITUTE PROGRESS JSC; a.k.a. PROGRESS MRI JSC), 54 Cherepanovykh Driveway, Moscow 125183, Russia; Organization Established Date 09 Nov 2012; Tax ID No. 7743869192 (Russia); Registration Number 1127747128662 (Russia) [RUSSIA-EO14024].

Designated pursuant to section 1(a)(i) of E.O. 14024 for operating or having operated in the electronics sector of the Russian Federation economy.

14. JOINT STOCK COMPANY RESEARCH INSTITUTE OF ELECTRONIC AND MECHANICAL DEVICES (a.k.a. JSC NII ELEKTRONNO-MEKHANICHESKIKH PRIBOROV; a.k.a. PENZA SCIENTIFIC RESEARCH INSTITUTE OF ELECTRO-MECHANICAL DEVICES; a.k.a. “JSC NIIEMP”; a.k.a. “JSC SRIEMI”), 44, Karakozova Street, Penza 440600, Russia; Tax ID No. 5834054179 (Russia); Registration Number 1115834003185 (Russia) [RUSSIA-EO14024].

Designated pursuant to section 1(a)(i) of E.O. 14024 for operating or having operated in the electronics sector of the Russian Federation economy.

15. JOINT STOCK COMPANY VOLOGODSKY OPTIKO MEKHANICHESKY FACTORY (a.k.a. JOINT STOCK COMPANY VOMZ; a.k.a. VOLOGDA OPTICAL AND MECHANICAL PLANT JSC), 54 Maltseva Str., Vologda, Vologda Region 160009, Russia; Organization Established Date 14 Apr 1994; Tax ID No. 3525023010 (Russia); Registration Number 1023500882437 (Russia) [RUSSIA-EO14024].

Designated pursuant to section 1(a)(i) of E.O. 14024 for operating or having operated in the electronics sector of the Russian Federation economy.

16. JOINT STOCK COMPANY VORONEZHSKY FACTORY POLUPROVODNIKOVYKH PRIBOROV-SBORKA (a.k.a. JOINT STOCK COMPANY VZPP-S; a.k.a. JSC VORONEZH SEMICONDUCTOR DEVICES PLANT-ASSEMBLY; a.k.a. VORONEZH SEMICONDUCTOR DEVICES FACTORY-ASSEMBLY; a.k.a. VZPP-S AO), 119A Leninsky Ave, Voronezh, Voronezh region 394033, Russia; Organization Established Date 26 Dec 2005; Tax ID No. 3661033635 (Russia); Registration Number 1053600592330 (Russia) [RUSSIA-EO14024].

Designated pursuant to section 1(a)(i) of E.O. 14024 for operating or having operated in the electronics sector of the Russian Federation economy.

17. JSC SVETLANA POLUPROVODNIKI (a.k.a. SVETLANA POLUPROVODNIKI PAO; a.k.a. SVETLANA SEMICONDUCTORS STOCK COMPANY; a.k.a. ZAO SVETLANA POLUPROVODNIKI), 27, Engels Prospect, Saint Petersburg 194156, Russia; Tax ID No. 7802002037 (Russia); Registration Number 1027801534485 (Russia) [RUSSIA-EO14024].

Designated pursuant to section 1(a)(i) of E.O. 14024 for operating or having operated in the electronics sector of the Russian Federation economy.

18. MITISHINSKIY SCIENTIFIC RESEARCH INSTITUTE OF RADIO MEASURING INSTRUMENTS (a.k.a. FEDERAL STATE UNITARY ENTERPRISE MNIIRIP; a.k.a. MYTISHCHI RESEARCH INSTITUTE FOR RF MEASUREMENT INSTRUMENTS), ul Kolpakova, 2A/lit B1, 3 etazh Kabinet 86,87, Mytishchi, Moskovskaya 141002, Russia; Tax ID No. 5029008940 (Russia); Registration Number 1035005501629 (Russia) [RUSSIA-EO14024].

Designated pursuant to section 1(a)(i) of E.O. 14024 for operating or having operated in the electronics sector of the Russian Federation economy.

19. LLC SCIENTIFIC PRODUCTION ENTERPRISE DIGITAL SOLUTIONS (a.k.a. ASIC AND ELECTRONIC ENGINEERING DESIGN CENTER DIGITAL SOLUTIONS JSC), Room 4, Office 1, 3rd Floor, Building 7, House 9a, 2nd Sinichkina Str., Moscow 111020, Russia; Tax ID No. 7715500090 (Russia) [RUSSIA-EO14024].

Designated pursuant to section 1(a)(i) of E.O. 14024 for operating or having operated in the electronics sector of the Russian Federation economy.

20. OJSC SCIENTIFIC RESEARCH INSTITUTE OF PRECISION MECHANICAL ENGINEERING (a.k.a. RESEARCH INSTITUTE OF PRECISION MACHINE MANUFACTURING; a.k.a. SCIENTIFIC AND RESEARCH INSTITUTE OF PRECISION ENGINEERING; a.k.a. “NIITM”), 10 Panfilovsky avenue, Zelenograd, Moscow 124460, Russia; Tax ID No. 7735043966 (Russia) [RUSSIA-EO14024].

Designated pursuant to section 1(a)(i) of E.O. 14024 for operating or having operated in the electronics sector of the Russian Federation economy.

21. OPEN JOINT STOCK COMPANY SCIENTIFIC AND PRODUCTION ENTERPRISE PULSAR (a.k.a. ENTERPRISE SPE PULSAR JSC; a.k.a. JSC NPP PULSAR; a.k.a. JSC SPC PULSAR; a.k.a. SPE PULSAR), Pass. Okruzhnoy, House 27, Moscow 105187, Russia; Tax ID No. 7719846490 (Russia); Registration Number 1137746472599 (Russia) [RUSSIA-EO14024].

Designated pursuant to section 1(a)(i) of E.O. 14024 for operating or having operated in the electronics sector of the Russian Federation economy.

22. PUBLIC JOINT STOCK COMPANY KREMNY (a.k.a. AO GRUPPA KREMNY EL; a.k.a. CJSC KREMNY AI GROUP; a.k.a. JSC GRUPPA KREMNY EL; a.k.a. KREMNY GROUP), Krasnoarmeyskaya 103, Bryansk 241037, Russia; Organization Established Date 26 Feb 1993; Tax ID No. 3234000876 (Russia); Registration Number 1023202739218 (Russia) [RUSSIA-EO14024].

Designated pursuant to section 1(a)(i) of E.O. 14024 for operating or having operated in the electronics sector of the Russian Federation economy.

23. FEDERAL STATE BUDGETARY SCIENTIFIC INSTITUTION RESEARCH AND PRODUCTION COMPLEX TECHNOLOGY CENTER (a.k.a. NPK TECHNOLOGICAL CENTER; a.k.a. SCIENTIFIC MANUFACTURING COMPLEX TECHNOLOGICAL CENTER; a.k.a. SMC TECHNOLOGICAL CENTRE), Shokina Square, House 1, Bld. 7 Off. 7237, Zelenograd, Moscow 124498, Russia; Organization Established Date 13 Mar 2000; Tax ID No. 7735096460 (Russia); Registration Number 1027700428480 (Russia) [RUSSIA-EO14024].

Designated pursuant to section 1(a)(i) of E.O. 14024 for operating or having operated in the technology sector and electronics sector of the Russian Federation economy.

24. JSC SCIENTIFIC RESEARCH INSTITUTE SUBMICRON (a.k.a. JSC RESEARCH INSTITUTE SUBMICRON), 5, Bld. 2, Georgievsky Avenue, Zelenograd, Moscow 124460, Russia; Tax ID No. 7735574607 (Russia) [RUSSIA-EO14024].

Designated pursuant to section 1(a)(i) of E.O. 14024 for operating or having operated in the aerospace sector of the Russian Federation economy.

Notice of Department of State Actions

On September 15, 2022, the Department of State, in consultation with other departments, as appropriate, determined that the property and interests in property subject to U.S. jurisdiction of the following persons are blocked under the relevant sanctions authority listed below.

Entities

1. JOINT STOCK COMPANY RESEARCH AND PRODUCTION ASSOCIATION NAMED AFTER S. A. LAVOCHKINA (a.k.a. LAVOCHKIN SCIENTIFIC RESEARCH ASSOCIATION; a.k.a. NAUCHNO PROIZVODSTVENNOYE OBYEDINENIYE IMENI LAVOCHKINA; a.k.a. NPO IMENI LAVOCHKINA; a.k.a. S.A. LAVOCHKIN NPO; a.k.a. S.A. LAVOCHKIN SCIENTIFIC PRODUCTION ASSOCIATION), 24 Leningradskaya Str., Khimki, Moscow region 141411, Russia; Organization Established Date 05 Apr 2017; Tax ID No. 5047196566 (Russia); Registration Number 1175029009363 (Russia) [RUSSIA-EO14024].

Designated pursuant to section 1(a)(i) of E.O. 14024 for operating or having operated in the defense and related materiel sector of the Russian Federation economy.

2. JOINT STOCK COMPANY ROSSIYSKIYE KOSMICHESKIYE SISTEMY (a.k.a. ROSSIYSKIYE KOSMICHESKIYE SISTEMY; a.k.a. RUSSIAN SPACE SYSTEMS JSC; a.k.a. “RKS”; a.k.a. “RSS”), 53, Aviamotornaya Str., Moscow, Russia; Organization Established Date 23 Oct 2009; Tax ID No. 7722698789 (Russia); Registration Number 1097746649681 (Russia) [RUSSIA-EO14024].

Designated pursuant to section 1(a)(i) of E.O. 14024 for operating or having operated in the defense and related materiel sector of the Russian Federation economy.

3. JSC ACADEMICIAN M.F. RESHETNEV INFORMATION SATELLITE SYSTEMS (a.k.a. ISS RESHETNEV), 52, Lenin Street, Zheleznogorsk, Krasnoyarsk Region 662972, Russia; Organization Established Date 03 Mar 2008; Tax ID No. 2452034898 (Russia); Business Registration Number 1082452000290 (Russia) [RUSSIA-EO14024].

Designated pursuant to section 1(a)(i) of E.O. 14024 for operating or having operated in the defense and related materiel sector of the Russian Federation economy.

4. FEDERAL STATE FINANCED INSTITUTION OF SCIENCE HIGHER EDUCATION INSTITUTION SPECTROSCOPY OF THE RUSSIAN FEDERATION ACADEMY OF SCIENCES (a.k.a. INSTITUTE OF SPECTROSCOPY OF THE RUSSIAN ACADEMY OF SCIENCES; a.k.a. “ISAN”), Fizicheskaya Str., 5, Troitsk, Moscow 108840, Russia; Organization Established Date 07 Jul 1992; Tax ID No. 5046005427 (Russia); Registration Number 1035009350100 (Russia) [RUSSIA-EO14024].

Designated pursuant to section 1(a)(i) of E.O. 14024 for operating or having operated in the technology sector of the Russian Federation economy.

5. FEDERAL STATE FINANCED INSTITUTION OF SCIENCE PHYSICS AND TECHNOLOGY INSTITUTE NAMED AFTER A. F. IOFFE OF THE RUSSIAN FEDERATION ACADEMY OF SCIENCES (a.k.a. IOFFE INSTITUTE), 26 Politekhnicheskaya Str., Saint Petersburg 194021, Russia; Organization Established Date 26 Apr 1999; Tax ID No. 7802072267 (Russia); Registration Number 1037804006998 (Russia) [RUSSIA-EO14024].

Designated pursuant to section 1(a)(i) of E.O. 14024 for operating or having operated in the technology sector of the Russian Federation economy.

6. FEDERAL STATE FINANCED INSTITUTION OF SCIENCE PHYSICS AND TECHNOLOGY INSTITUTE NAMED AFTER K. A. VALIEVA OF THE RUSSIAN FEDERATION ACADEMY OF SCIENCES (a.k.a. FTIAN NAMED AFTER K. A. VALIEVA RAN; a.k.a. K.A. VALIEV PHYSICO-TECHNOLOGICAL INSTITUTE RAS; a.k.a. VALIEV INSTITUTE OF PHYSICS AND TECHNOLOGY OF RUSSIAN ACADEMY OF SCIENCES; a.k.a. VALIEV IPT RAS), 34 Nakhimovsky Ave, Moscow 117218, Russia; Organization Established Date 16 Feb 1994; Tax ID No. 7727084140 (Russia); Registration Number 1037739352155 (Russia) [RUSSIA-EO14024].

Designated pursuant to section 1(a)(i) of E.O. 14024 for operating or having operated in the technology sector of the Russian Federation economy.

7. INTERNATIONAL CENTER FOR QUANTUM OPTICS AND QUANTUM TECHNOLOGIES LIMITED LIABILITY COMPANY (a.k.a. OOO MTSKT; a.k.a. RUSSIAN QUANTUM CENTER; a.k.a. “RQC”), 30 Bld., 1 Bolshoy Blvd., Skolkovo Innovation Center, Moscow 121205, Russia; 100 Novaya Street, Skolkovo Village, Odintsovo, Moscow Region 143026, Russia; Tax ID No. 7743801910 (Russia); Registration Number 1107746994365 (Russia) [RUSSIA-EO14024].

Designated pursuant to section 1(a)(i) of E.O. 14024 for operating or having operated in the technology sector of the Russian Federation economy.

8. JOINT STOCK COMPANY INSTITUTE FOR SCIENTIFIC RESEARCH VYCHISLITELNYKH KOMPLEKSOV NAMED AFTER M. A. KARTSEVA (a.k.a. AO NIIVK N.A. M.A. KARTSEV; a.k.a. JOINT STOCK COMPANY NIIVK NAMED AFTER M. A. KARTSEVA; a.k.a. JSC NII VYCHISLITELNYKH KOMPLEKSOV IM. M.A. KARTSEVA), Profsoyuznaya St., 108, Moscow 117437, Russia; Organization Established Date 24 May 1993; Tax ID No. 7728032882 (Russia); Registration Number 1037700128828 (Russia) [RUSSIA-EO14024].

Designated pursuant to section 1(a)(i) of E.O. 14024 for operating or having operated in the technology sector of the Russian Federation economy.

9. JOINT STOCK COMPANY RESEARCH CENTER ELINS (a.k.a. ELINS STC JSC; a.k.a. JSC NAUCHNYY CENTER ELINS; a.k.a. JSC SCIENTIFIC AND TECHNICAL CENTER ELINS; a.k.a. SCIENTIFIC TECHNICAL CENTRE ELINS), Pаnfilovsky Pr., 10, Zelenograd, Moscow 124460, Russia; Organization Established Date 23 Mar 2010; Tax ID No. 7735567832 (Russia); Registration Number 1107746215455 (Russia) [RUSSIA-EO14024].

Designated pursuant to section 1(a)(i) of E.O. 14024 for operating or having operated in the technology sector of the Russian Federation economy.

10. JOINT VENTURE QUANTUM TECHNOLOGIES (a.k.a. LIMITED LIABILITY COMPANY SOVMESTNOYE PREDPRIYATIYE KVANTOVYE TEKHNOLOGII; a.k.a. LLC JOINT VENTURE KVANT; a.k.a. LLC JV KVANT; a.k.a. “SP QUANT”), 46 Varshavskoye Highway, Moscow 115230, Russia; Organization Established Date 26 Mar 2020; Tax ID No. 7726464220 (Russia); Registration Number 1207700141032 (Russia) [RUSSIA-EO14024].

Designated pursuant to section 1(a)(i) of E.O. 14024 for operating or having operated in the technology sector of the Russian Federation economy.

11. JSC ADDITIVE TECHNOLOGIES CENTER (a.k.a. JSC CENTER ADDITIVNYKH TEKHNOLOGY; a.k.a. “JSC ATC”), 7, Vishnevaya Str, Moscow 125362, Russia; Organization Established Date 2018; Tax ID No. 7733325690 (Russia); Registration Number 1187746120407 (Russia) [RUSSIA-EO14024].

Designated pursuant to section 1(a)(i) of E.O. 14024 for operating or having operated in the technology sector of the Russian Federation economy.

12. JSC MOSCOW CENTER OF SPARC TECHNOLOGIES (a.k.a. JSC MTSST; a.k.a. “JSC MCST”), 1, Bld. 23, Nagatinskaya Street, Moscow 117105, Russia; 51, Leninsky Ave, Moscow 119049, Russia; Tax ID No. 7736053886 (Russia); Registration Number 1027739148469 (Russia) [RUSSIA-EO14024].

Designated pursuant to section 1(a)(i) of E.O. 14024 for operating or having operated in the technology sector of the Russian Federation economy.

13. JSC SCIENTIFIC AND TECHNICAL CENTER ZASLON (a.k.a. ZASLON SCIENCE AND TECHNOLOGY CENTER), Koli Tomchaka St., 9, Saint Petersburg 196006, Russia; Tax ID No. 7826092350 (Russia); Registration Number 1027810228786 (Russia) [RUSSIA-EO14024].

Designated pursuant to section 1(a)(i) of E.O. 14024 for operating or having operated in the technology sector of the Russian Federation economy.

14. L.D. LANDAU INSTITUTE FOR THEORETICAL PHYSICS OF RUSSIAN ACADEMY OF SCIENCES, Akademika Semenova av., 1A, Chernogolovka, Moscow Region 142432, Russia; Tax ID No. 5031002141 (Russia); Registration Number 1035006108895 (Russia) [RUSSIA-EO14024].

Designated pursuant to section 1(a)(i) of E.O. 14024 for operating or having operated in the technology sector of the Russian Federation economy.

15. MULTICLET CORPORATION (a.k.a. JSC MULTIKLET), Office 135, 2 Chelyuskintsev Str., International Business Center Micron, Yekaterinburg 620014, Russia; Moscow, Russia; Tax ID No. 6658365770 (Russia); Registration Number 1106658012746 (Russia) [RUSSIA-EO14024].

Designated pursuant to section 1(a)(i) of E.O. 14024 for operating or having operated in the technology sector of the Russian Federation economy.

16. RZHANOV INSTITUTE OF SEMICONDUCTOR PHYSICS SIBERIAN BRANCH OF RUSSIAN ACADEMY OF SCIENCES (a.k.a. ISP SB RAS; a.k.a. RZHANOV INSTITUTE OF SEMICONDUCTOR PHYSICS SB RAS), 13 Lavrentiev Aven., Novosibirsk 630090, Russia; Tax ID No. 5408100057 (Russia); Registration Number 1025403651283 (Russia) [RUSSIA-EO14024].

Designated pursuant to section 1(a)(i) of E.O. 14024 for operating or having operated in the technology sector of the Russian Federation economy.

17. BAIKAL ELECTRONICS JSC (a.k.a. JSC BAYKAL ELEKTRONIKS), Block B, 2nd Floor, Riga Land Business Center, 29 KM M9 Baltyia Highway, Krasnogorskiy District, Moscow Region 143421, Russia; Tax ID No. 7707767484 (Russia); Registration Number 1127746006926 (Russia) [RUSSIA-EO14024].

Designated pursuant to section 1(a)(i) of E.O. 14024 for operating or having operated in the electronics sector of the Russian Federation economy.

18. ELVEES RESEARCH AND DEVELOPMENT CENTER JSC (a.k.a. ELVEES R AND D CENTER JSC; a.k.a. ELVEES R&D CENTER JSC; a.k.a. JOINT STOCK COMPANY SCIENTIFIC AND PRODUCTION CENTER ELECTRONIC COMPUTING AND INFORMATION SYSTEMS; a.k.a. JSC SPC ELVIS), Proyezd 4922, 4 Build.2, Zelenograd, Moscow 124498, Russia; Tax ID No. 7735582816 (Russia) [RUSSIA-EO14024].

Designated pursuant to section 1(a)(i) of E.O. 14024 for operating or having operated in the electronics sector of the Russian Federation economy.

19. FEDERAL RESEARCH CENTER INSTITUTE OF APPLIED PHYSICS OF THE RUSSIAN ACADEMY OF SCIENCES (a.k.a. “IAP RAS”), 46 Ulyanov Str., Nizhny Novgorod 603950, Russia; Tax ID No. 5260003387 (Russia); Registration Number 1025203020193 (Russia) [RUSSIA-EO14024].

Designated pursuant to section 1(a)(i) of E.O. 14024 for operating or having operated in the electronics sector of the Russian Federation economy.

20. JOINT STOCK COMPANY ANGSTREM (a.k.a. ANGSTREM JSC), 2str3 Shokina Square, Zelenograd, Moscow 124498, Russia; Organization Established Date 23 Jun 1993; Tax ID No. 7735010706 (Russia); Registration Number 1027700140930 (Russia) [RUSSIA-EO14024].

Designated pursuant to section 1(a)(i) of E.O. 14024 for operating or having operated in the electronics sector of the Russian Federation economy.

21. JOINT STOCK COMPANY ELEMENT (a.k.a. ELEMENT GROUP), 12 Presnenskaya Waterfront, Moscow 123112, Russia; Organization Established Date 20 Jul 2020; Tax ID No. 9703014282 (Russia); Registration Number 1207700245532 (Russia) [RUSSIA-EO14024].

Designated pursuant to section 1(a)(i) of E.O. 14024 for operating or having operated in the electronics sector of the Russian Federation economy.

22. JOINT STOCK COMPANY INSTITUTE FOR SCIENTIFIC RESEARCH ELEKTRONNOY TEKHNIKI (a.k.a. ELECTRONIC TECHNOLOGY RESEARCH INSTITUTE; a.k.a. JOINT STOCK COMPANY NIIET; a.k.a. RESEARCH INSTITUTE OF ELECTRONIC ENGINEERING), 5 Starykh Bolshevikov Str., Voronezh, Voronezh Region 394033, Russia; Organization Established Date 11 Oct 2012; Tax ID No. 3661057900 (Russia); Registration Number 1123668048789 (Russia) [RUSSIA-EO14024].

Designated pursuant to section 1(a)(i) of E.O. 14024 for operating or having operated in the electronics sector of the Russian Federation economy.

23. JOINT STOCK COMPANY PRODUCTION ASSOCIATION SEVER (a.k.a. PROIZVODSTVENNOYE OBYEDINENIYE SEVER; a.k.a. “PA SEVER”; a.k.a. “PO SEVER”), 3 Obedineniya Str., Novosibirsk, Novosibirsk region 630020, Russia; Organization Established Date 25 Mar 2019; Registration Number 1195476022940 (Russia); alt. Registration Number 5410079229 (Russia) [RUSSIA-EO14024].

Designated pursuant to section 1(a)(i) of E.O. 14024 for operating or having operated in the electronics sector of the Russian Federation economy.

24. JOINT STOCK COMPANY RESEARCH AND DEVELOPMENT ENTERPRISE RADIOSVYAZ (a.k.a. AO NPP RADIOSVIAZ; a.k.a. JOINT STOCK COMPANY SCIENTIFIC PRODUCTION ENTERPRISE RADIOSVIAZ; a.k.a. JSC NPP RADIOSVYAZ; a.k.a. JSC SPE RADIOSVYAZ; a.k.a. RESEARCH AND PRODUCTION ENTERPRISE RADIOSVYAZ; a.k.a. SCIENTIFIC PRODUCTION ENTERPRISE RADIOSVYAZ JOINT STOCK COMPANY), 19 Dekabristov Str., Krasnoyarsk, Krasnoyarsk Territory 660021, Russia; Organization Established Date 27 Dec 2012; Tax ID No. 2460243408 (Russia); Registration Number 1122468072231 (Russia) [RUSSIA-EO14024].

Designated pursuant to section 1(a)(i) of E.O. 14024 for operating or having operated in the electronics sector of the Russian Federation economy.

25. JOINT STOCK COMPANY RESEARCH AND DEVELOPMENT ENTERPRISE SAPFIR (a.k.a. AKTSIONERNOYE OBSHCHESTVO NAUCHNO-PROIZVODSTVENNOYE PREDPRIYATIYE SAPFIR; a.k.a. AO NPP SAPFIR; a.k.a. RESEARCH AND PRODUCTION ENTERPRISE SAPFIR JOINT STOCK COMPANY; a.k.a. RPE SAPFIR JSC; a.k.a. RPE SAPFIR PJSC), 53 Shcherbakovskaya Str., Moscow 105318, Russia; Organization Established Date 13 Sep 1993; Tax ID No. 7719007689 (Russia); Registration Number 1027700070661 (Russia) [RUSSIA-EO14024].

Designated pursuant to section 1(a)(i) of E.O. 14024 for operating or having operated in the electronics sector of the Russian Federation economy.

26. LIMITED LIABILITY COMPANY GROUP OF COMPANIES AKVARIUS (a.k.a. LLC GRUPPA AKVARIUS; a.k.a. LLC PRODUCTION COMPANY AQUARIUS; a.k.a. “AQUARIUS”), Vl6str1 22 km Kiyevskoye Highway, Moscow 119027, Russia; Kievskoe Shosse, 22-km, 6, Bldg. 1, Moscow 108811, Russia; Organization Established Date 09 Jan 2003; Tax ID No. 7701321693 (Russia); Registration Number 1037701002217 (Russia) [RUSSIA-EO14024].

Designated pursuant to section 1(a)(i) of E.O. 14024 for operating or having operated in the electronics sector of the Russian Federation economy.

27. LIMITED LIABILITY COMPANY KROKUS NANOELEKTRONIKA (a.k.a. CROCUS NANOELECTRONICS), 42k5 Volgogradsky Ave, Moscow 109316, Russia; Organization Established Date 27 May 2011; Tax ID No. 7710889933 (Russia); Registration Number 1117746411529 (Russia) [RUSSIA-EO14024].

Designated pursuant to section 1(a)(i) of E.O. 14024 for operating or having operated in the electronics sector of the Russian Federation economy.

28. LIMITED LIABILITY COMPANY YADRO FAB DUBNA (a.k.a. LLC YADRO FAB DUBNA; a.k.a. YADRO FAB DUBNA OOO), 4 Programmistov Str., Dubna, Moscow Region 141983, Russia; Organization Established Date 26 May 2020; Tax ID No. 5010057397 (Russia); Registration Number 1205000041245 (Russia) [RUSSIA-EO14024].

Designated pursuant to section 1(a)(i) of E.O. 14024 for operating or having operated in the electronics sector of the Russian Federation economy.

29. SPECIALIZED ENGINEERING AND DESIGN BUREAU OF ELECTRONIC SYSTEMS JOINT STOCK COMPANY (a.k.a. JOINT STOCK COMPANY SPECIALIZED DESIGN TECHNOLOGY BUREAU ELEKTRONNYKH SYSTEM; a.k.a. JSC SPETSIALIZIROVANNOYE KONSTRUKTORSKO-TEKHNOLOGICHESKOYE BYURO ELEKTRONNYKH SYSTEM; a.k.a. SKTB ES, AO), 160 Leninsky Ave, Voronezh, Voronezh Region 394000, Russia; Organization Established Date 17 Aug 2006; Tax ID No. 3661036308 (Russia); Registration Number 1063667253528 (Russia) [RUSSIA-EO14024].

Designated pursuant to section 1(a)(i) of E.O. 14024 for operating or having operated in the electronics sector of the Russian Federation economy.

30. FEDERAL STATE FINANCED INSTITUTION OF SCIENCE PHYSICAL HIGHER EDUCATION INSTITUTION NAMED AFTER P. N. LEBEDEVA OF THE RUSSIAN FEDERATION ACADEMY SCIENCES (a.k.a. LEBEDEV PHYSICAL INSTITUTE OF THE RUSSIAN ACADEMY OF SCIENCES; a.k.a. “FIAN”; a.k.a. “LPI RAS”), 53 Leninsky Ave, Moscow 119991, Russia; Organization Established Date 03 Oct 2001; Tax ID No. 7736037394 (Russia); Registration Number 1027739617960 (Russia) [RUSSIA-EO14024].

Designated pursuant to section 1(a)(i) of E.O. 14024 for operating or having operated in the electronics sector of the Russian Federation economy.

On September 15, 2022, based on a decision by the Department of State, in consultation with other departments, as appropriate, OFAC updated the entry on the SDN List for the following person, whose property and interests in property subject to U.S. jurisdiction continue to be blocked under the relevant sanctions authority listed below.

Notice of Department of State Actions

On November 14, 2022, the Department of State, in consultation with other departments, as appropriate, determined that the property and interests in property subject to U.S. jurisdiction of the following persons are blocked under the relevant sanctions authority listed below.

1. JSC PKK MILANDR (a.k.a. JSC ICC MILANDR), Georgievskiy Prospekt, 5, Zelenograd, Moscow 124498, Russia; Organization Established Date 1993; Tax ID No. 7735040690 (Russia); Registration Number 1027739083921 (Russia) [RUSSIA-EO14024].

Designated pursuant to section 1(a)(i) of E.O. 14024 for operating or having operated in the electronics sector of the Russian Federation economy.

Notice of Department of State Actions

On November 15, 2022, based on a decision by the Department of State, in consultation with other departments, as appropriate, OFAC updated the entry on the SDN List for the following person, whose property and interests in property subject to U.S. jurisdiction continue to be blocked under the relevant sanctions authority listed below.

1. ISLAMIC REVOLUTIONARY GUARD CORPS AIR FORCE (a.k.a. AEROSPACE DIVISION OF IRGC; a.k.a. AEROSPACE FORCE OF THE ARMY OF THE GUARDIANS OF THE ISLAMIC REVOLUTION; a.k.a. AFAGIR; a.k.a. AIR FORCE, IRGC (PASDARAN); a.k.a. IRGC AEROSPACE FORCE; a.k.a. IRGC AIR FORCE; a.k.a. IRGCAF; a.k.a. IRGCASF; a.k.a. ISLAMIC REVOLUTION GUARDS CORPS AIR FORCE; a.k.a. ISLAMIC REVOLUTIONARY GUARDS CORPS AEROSPACE FORCE; a.k.a. ISLAMIC REVOLUTIONARY GUARDS CORPS AIR FORCE; a.k.a. SEPAH PASDARAN AIR FORCE), Tehran, Iran; Syria; Additional Sanctions Information—Subject to Secondary Sanctions [FTO] [SDGT] [NPWMD] [IRGC] [IFSR].

-to-

ISLAMIC REVOLUTIONARY GUARD CORPS AIR FORCE (a.k.a. AEROSPACE DIVISION OF IRGC; a.k.a. AEROSPACE FORCE OF THE ARMY OF THE GUARDIANS OF THE ISLAMIC REVOLUTION; a.k.a. AFAGIR; a.k.a. AIR FORCE, IRGC (PASDARAN); a.k.a. IRGC AEROSPACE FORCE; a.k.a. IRGC AIR FORCE; a.k.a. IRGCAF; a.k.a. IRGCASF; a.k.a. ISLAMIC REVOLUTION GUARDS CORPS AIR FORCE; a.k.a. ISLAMIC REVOLUTIONARY GUARDS CORPS AEROSPACE FORCE; a.k.a. ISLAMIC REVOLUTIONARY GUARDS CORPS AIR FORCE; a.k.a. SEPAH PASDARAN AIR FORCE), Tehran, Iran; Syria; Additional Sanctions Information—Subject to Secondary Sanctions [FTO] [SDGT] [NPWMD] [IRGC] [IFSR] [RUSSIA-EO14024].

Designated pursuant to section 1(a)(ii)(F) of E.O. 14024 for being responsible for or complicit in, or to have directly or indirectly engaged or attempted to engage in, activities that undermine the peace, security, political stability, or territorial integrity of the United States, its allies, or its partners for or on behalf of, or for the benefit of, directly or indirectly, the Government of the Russian Federation.

2. QODS AVIATION INDUSTRIES (a.k.a. GHODS AVIATION INDUSTRIES; a.k.a. QODS RESEARCH CENTER), P.O. Box 15875-1834, Km 5 Karaj Special Road, Tehran, Iran; Unit (or Suite) 207, Saleh Blvd., Tehran, Iran; Unit 207, Tarajit Maydane Taymori (or Teimori) Square, Basiri Building, Tarasht, Tehran, Iran; Additional Sanctions Information—Subject to Secondary Sanctions [NPWMD] [IFSR].

-to-

QODS AVIATION INDUSTRIES (a.k.a. GHODS AVIATION INDUSTRIES; a.k.a. QODS RESEARCH CENTER), P.O. Box 15875-1834, Km 5 Karaj Special Road, Tehran, Iran; Unit (or Suite) 207, Saleh Blvd., Tehran, Iran; Unit 207, Tarajit Maydane Taymori (or Teimori) Square, Basiri Building, Tarasht, Tehran, Iran; Additional Sanctions Information—Subject to Secondary Sanctions [NPWMD] [IFSR] [RUSSIA-EO14024].

Designated pursuant to section 1(a)(ii)(F) of E.O. 14024 for being responsible for or complicit in, or to have directly or indirectly engaged or attempted to engage in, activities that undermine the peace, security, political stability, or territorial integrity of the United States, its allies, or its partners for or on behalf of, or for the benefit of, directly or indirectly, the Government of the Russian Federation.

3. PRIVATE MILITARY COMPANY 'WAGNER' (a.k.a. CHASTNAYA VOENNAYA KOMPANIYA 'VAGNER'; a.k.a. CHVK VAGNER; a.k.a. PMC WAGNER), Russia; Secondary sanctions risk: Ukraine-/Russia-Related Sanctions Regulations, 31 CFR 589.201 and/or 589.209 [UKRAINE-EO13660].

-to-

PRIVATE MILITARY COMPANY 'WAGNER' (a.k.a. CHASTNAYA VOENNAYA KOMPANIYA 'VAGNER'; a.k.a. CHVK VAGNER; a.k.a. PMC WAGNER), Russia; Secondary sanctions risk: Ukraine-/Russia-Related Sanctions Regulations, 31 CFR 589.201 and/or 589.209 [UKRAINE-EO13660] [RUSSIA-EO14024].

Designated pursuant to section 1(a)(i) of E.O. 14024 for operating or having operated in the defense and related materiel sector of the Russian Federation economy.

Notice of Department of State Actions

On December 9, 2022, the Department of State, in consultation with other departments, as appropriate, determined that the property and interests in property subject to U.S. jurisdiction of the following persons are blocked under the relevant sanctions authority listed below.

Entities

BILLING CODE 1710-27-P

Notice of Department of State Actions

On December 22, 2022, the Department of State, in consultation with other departments, as appropriate, determined that the property and interests in property subject to U.S. jurisdiction of the following persons are blocked under the relevant sanctions authority listed below.

Entities

Renee P. Sonderman,
Acting Deputy Assistant Secretary, Bureau of Arms Control and Nonproliferation, Department of State.

[FR Doc. 2025-23022 Filed 12-16-25; 8:45 am]

BILLING CODE 1710-27-C